OFFICE OF THE UNITED STATES TRADE REPRESENTATIVE

The Trade and Investment Partnership for the Middle East and North Africa

AGENCY: Office of the United States Trade Representative.

ACTION: Request for comments.

SUMMARY: In his May 19, 2011, speech on recent developments in the Middle East and North Africa (MENA) region, the President called for a Trade and Investment Partnership Initiative to explore ways to further strengthen economic ties both between the United States and MENA countries and among the MENA countries themselves. Over the coming months, the United States, partnering where possible with the European Union and other key countries and entities, will launch a series of initiatives to facilitate more robust trade within the region and promote greater MENA integration with U.S. and other markets.

To ensure that a wide range of priorities and concerns are addressed, U.S. Government officials will continue to reach out to business, non-governmental organizations (NGOs), academia and other stakeholders in order to elicit ideas for shaping future economic engagement with this critical region.

As part of this process, the U.S. Government welcomes written input from members of the public on ideas for deepening economic ties with and among MENA countries.

DATES: Written comments should be submitted no later than October 15, 2011.

Submissions: To facilitate expeditious handling, the public is strongly encouraged to submit documents electronically via http://www.regulations.gov, docket number USTR-2011-xxxx. Submissions should contain the term “2011 Middle East and North Africa Trade” in the “Type comment & Upload file:” field on http://www.regulations.gov.

To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the http:www.regulations.gov Web site, please consult the resources provided on the Web site by clicking on the “Help” tab.) The http://www.regulations.gov Web site provides the option of making submissions by filling in a comments field, or by attaching a document. USTR prefers submissions to be provided in an attached document. USTR prefers submissions in Microsoft Word (.doc) or Adobe Acrobat (.pdf). If the submission is in an application other than those two, please indicate the name of the application in the “Comments” field.

FOR FURTHER INFORMATION CONTACT: Sonia Franceski, Director for Middle East Affairs, (202) 395-4987, Office of the United States Trade Representative, 600 17th Street, NW., Washington, DC 20508.

Background

The relationship between the United States and countries of the Middle East and North Africa is built upon some of the most important geostrategic and economic links in the world. In order to further reinforce cooperation with, and expand economic ties to, a part of the world undergoing profound change, the President on May 19 called for the launch of a Trade and Investment Partnership Initiative for the MENA region to: (1) Facilitate more trade within the region, (2) build on existing agreements to promote integration with U.S. and European markets, and (3) open the door for those countries that adopt high standards of reform and trade liberalization to construct a regional trade arrangement.

Fostering greater trade and more open economic policies continue to represent positive opportunities for U.S. engagement with the region. With a growing population of over 400 million, an expanding regional GDP topping $2.4 trillion, and $1 trillion in various sovereign investment funds, the nations of the MENA region continue to offer significant potential opportunities for U.S. exporters and investors. Collectively, MENA countries in 2010 ranked as the fifth largest destination for U.S. exports, with a total of $60 billion. Although economic activity in significant parts of the region is still dominated by energy industries, this is by no means universal. Governments in many countries are striving to provide greater job opportunities for predominantly young workforces and (where appropriate) diversify their economies to offset oil/gas price volatility.

The U.S. strategy for encouraging a more open business climate in the MENA region will consist of a series of building blocks, in which the United States attempts to consolidate gains already achieved, to launch new efforts, where possible, to foster the adoption of modern open market policies, and to stimulate greater regional cooperation.

As it pursues this strategy, the United States will seek to intensify its engagement with the EU and other key countries with the aim of reducing or eliminating barriers to trade and investment among MENA countries, and between MENA and developed country markets.

The U.S. Government welcomes concrete ideas from interested stakeholders for specific government actions that can enhance economic integration within the MENA region and increase trade and investment, both with—and within—the MENA region. Such ideas can build on efforts already underway and may cover a broad range of barriers and sectors. Ideally they would identify priorities both for the near and longer term. Based on experience to date, and without suggesting any limitations, the United States has identified the following general areas of focus:

(a) Technical barriers to trade in goods: reinforcing efforts to eliminate or substantially lower, where possible, remaining barriers;

(b) Services: aiming to substantially improve opportunities for services providers (both large and small) and facilitate services trade and investment in the region across a wide range of sectors;

(c) Agriculture: strengthening regulatory cooperation in the field of human, plant and animal health issues, including biotechnology, while recognizing the importance of continuing to improve our respective regulatory processes and of improving our scientific cooperation;

(d) Trade Facilitation: improving trans-border shipment of goods by increasing the certainty of how goods will be processed at the border;

(e) Investment: exploring practical solutions through changes in domestic law, policies, or practices that could help boost confidence in the rule of law and local institutions in the region and stimulate further inward investment across a wide range of sectors;

(f) Intellectual property: improving IPR protection and reducing costs;

(g) Transparency: enhancing and promoting public participation in economic policy formulation; and

(h) SMEs: improving support systems and access to export opportunities.

L. Daniel Mullaney,
Assistant United States Trade Representative for Europe and the Middle East.

[FR Doc. 2011-22804 Filed 9-6-11; 8:45 am]

BILLING CODE 3190-W1-P